DEPARTMENT OF AGRICULTURE

Submission for OMB Review; Comment Request

September 2, 2004.

The Department of Agriculture has submitted the following information collection requirement(s) to OMB for review and clearance under the Paperwork Reduction Act of 1995, Pub. L. 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Risk Management Agency

Title: Prescribed Fire Liability Insurance Survey.

OMB Control Number: 0563-NEW.

Summary of Collection: The Agriculture risk Protection Act (ARPA) of 2000 requires the Risk Management Agency (RMA) to increase the availability of risk management tools to provide assistance to State Foresters or equivalent officials for the prescribed use of burning on private forestland for the prevention, control and suppression of fire. RMA will conduct a one-time survey to determine if an affordable liability policy can be developed that would increase the adoption of prescribed fire on private forestland.

Need and Use of the Information: RMA will collect information for developing a risk management tool for prescribed use of fire. The survey will identify the risks of escaped fire and smoke from the prescribed fire. The information will be used to develop rating simulation models for private insurance policies. Florida, Oregon, Texas and the Midwest states including Wisconsin, Minnesota, Iowa, Oklahoma, and Missouri will participate.

Description of Respondents: Business or other for-profit; farms; Federal Government.

Number of Respondents: 357.

Frequency of Responses: Reporting: Biennially; other (one-time).

Total Burden Hours: 286.

Sondra Blakey,
Departmental Information Collection Clearance Officer.

[FR Doc. 04-20381 Filed 9-8-04; 8:45 am]

BILLING CODE 3410-08-P